DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory (INEEL). The Federal Advisory Committee Act (Pub. L. 92-463, 86 Stat. 770) requires that public notice of these meeting be announced in the Federal Register.

DATES: Tuesday, November 18, 2003; 8 a.m.—6 p.m. Wednesday, November 19, 2003; 8 a.m.—5 p.m.

ADDRESSES: Willard Arts Center, 498 A Street, Idaho Falls, ID 83402.

FOR FURTHER INFORMATION CONTACT: Ms. Peggy Hinman, INEEL Citizen Advisory Board (CAB) Administrator, North Wind, Inc., P.O. Box 51174, Idaho Falls, ID 83405, Phone (208) 528-8718, or visit the Board's Internet home page at http://www.ida.net/users/cab.

SUPPLEMENTARY INFORMATION:

Purpose of the Board: The purpose of the Board is to make recommendations to DOE and its regulators in the areas of future use, cleanup levels, waste disposition and cleanup priorities at the INEEL.

Tentative Agenda: The tentative objectives for the meeting include:

• To discuss a consensus recommendation addressing the End State Vision for the INEEL

• To receive a presentation about investigations being conducted for the Remedial Investigation and Baseline Risk Assessment for Waste Area Group 7 Pits and Trenches, followed by CAB discussion of reactions and concerns

• To receive a presentation of the status of the Pit 9 Stage II excavation

• To receive a presentation on the $800K Trust Fund established as part of the Settlement Agreement

• To receive a status report addressing the Environmental Management Program, implementation of the Performance Management Plan for Accelerating Cleanup at the INEEL, and compliance with the Idaho Settlement Agreement

• Receive a status report on shipments to the Waste Isolation Pilot plant, followed by CAB discussion of reactions and concerns

• Receive a presentation on the Water Integration Project's Science and Technology Strategies and Source Term Conceptual Model Summary

• Receive a presentation on the Calendar Year 2002 Annual Site Environmental Report and provide feedback to DOE on how to communicate with the public on this topic

• Review and decide whether to act on proposed amendments to the INEEL CAB's Procedures

• Discuss strategies for conducting new member recruitment efforts

Opportunities for public participation will be held Tuesday, November 18 from 12:15—12:45 and 5:45 to 6 p.m. and on November 19 from 11:45 a.m. to 12 noon and 3:30 to 3:45 p.m. Additional time may be made available for public comment during the presentations.

These times are subject to change as the meeting progresses, depending on the extent of comment offered. Please check with the meeting facilitator to confirm these times.

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman, INEEL CAB Administrator, at the address and phone number listed above.

Issued at Washington, DC, on October 29, 2003.
Rachel Samuel,
Deputy Advisory Committee Management Officer.

[FR Doc. 03-27588 Filed 10-31-03; 8:45 am]

BILLING CODE 6450-01-P